DEPARTMENT OF TRANSPORTATION

Federal Railroad Administration

[Docket Number FRA-2024-0068]

Petition for Extension of Waiver of Compliance

Under part 211 of title 49 Code of Federal Regulations (CFR), this document provides the public notice that by letter received May 24, 2024, a private owner, Tierney Foster Abel (Mr. Abel), petitioned the Federal Railroad Administration (FRA) to extend a waiver of compliance from certain provisions of the Federal railroad safety regulations contained at 49 CFR parts 223 (Safety Glazing Standards—Locomotives, Passenger Cars and Cabooses) and 231 (Railroad Safety Appliance Standards). FRA assigned the petition Docket Number FRA-2024-0068.¹

¹ Relief for this locomotive, with marking Leviathan 63, was previously granted in Docket Number FRA-2011-0011.

Specifically, Mr. Abel requests relief for steam locomotive HLLR 331 from the safety glazing standards in part 223, as well as § 231.15(b) and (d), Steam locomotives used in road service—pilot sill-steps, side handholds, which give requirements for certain safety appliances. The locomotive is operated on 4,500 feet of standard-gage track and only used during special events on the Stone Gables Estate property for a total of about 40 days of service. The petition states that HLLR 331 is used “to educate the public concerning early American railroad history” and will not be used for freight or passenger service. However, it “will occasionally pull some cars appropriate for its historic and educational mission.”

The relief is requested because installation of FRA safety glazing will “substantially change the historic configuration and appearance of the cab” and thereby “ruin the historical appearance.” Additionally, Mr. Abel states that HLLR 331 will not be used for coupling but instead, the locomotive and tender will be “connected by a draw bar that is . . . secured in place so it cannot be removed or otherwise come apart.” Therefore, the “step requirements are unnecessary” and the handholds would “substantially detract from the historic appearance” as the locomotive cab and tender are substantially different heights.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at www.regulations.gov. Follow the online instructions for submitting comments.

Communications received by October 7, 2024 will be considered by FRA before final action is taken. Comments received after that date will be considered if practicable.

Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2024-17567 Filed 8-7-24; 8:45 am]

BILLING CODE 4910-06-P